DEPARTMENT OF VETERANS AFFAIRS

48 CFR Part 806

RIN 2900-AI99

VA Acquisition Regulations: Sealed Bidding and Competitive Proposals

AGENCY: Department of Veterans Affairs.

ACTION: Withdrawal of Proposed rule.

SUMMARY: This document withdraws a proposed rule published in the Federal Register on March 11, 1998 (63 FR 11865), that would have amended the Department of Veterans Affairs Acquisition Regulation (VAAR) at 48 CFR 806.401. The changes proposed in this rule are being incorporated into a new proposed rule under RIN 2900-AK78 that will update the entire VAAR, thus making proposed rule 2900-AI99 unnecessary.

DATES: The proposed rule is withdrawn as of September 12, 2003.

FOR FURTHER INFORMATION CONTACT: Don Kaliher, Acquisition Policy Division (049A5A), Office of Acquisition and Materiel Management, Department of Veterans Affairs, 810 Vermont Ave., NW., Washington, DC 20420, (202) 273-8819.

Approved: August 28, 2003.
Anthony J. Principi,
Secretary of Veterans Affairs.

[FR Doc. 03-23199 Filed 9-11-03; 8:45 am]

BILLING CODE 8320-01-P